DEPARTMENT OF LABOR

Office of Workers' Compensation Programs

[OMB Control No. 1240-0058]

Proposed Extension Without Change of a Currently Approved Collection; Request for Intervention, Longshore and Harbor Workers' Compensation Act

AGENCY: Office of Workers' Compensation Programs, Labor.

ACTION: Request for public comments.

SUMMARY: The Department of Labor (DOL) is soliciting comments concerning a proposed extension for the authority to conduct the information collection request (ICR) titled, “Request for Intervention ” This comment request is part of continuing Departmental efforts to reduce paperwork and respondent burden in accordance with the Paperwork Reduction Act of 1995 (PRA). This request helps to ensure that: requested data can be provided in the desired format; reporting burden (time and financial resources) is minimized; collection instruments are clearly understood; and the impact of collection requirements on respondents can be properly assessed. Currently, DLHWC is soliciting comments on the information collection for LS-4, Attorney Fee Approval Request, LS-5 Application for Special Fund Relief, LS-6 Commutation, LS-7 Request for Intervention, LS-8 Settlement Application Section, LS-9 Stipulation Approval Request by Registered or Certified Mail for Employers and/or Insurance Carriers, Attorney Fee Approval Request, Application for Special Fund Relief, Commutation Application, Request for Intervention, Settlement Application Section, and the Stipulation Approval.

DATES: Consideration will be given to all written comments received by February 9, 2026.

ADDRESSES: You may submit comment as follows. Please note that late, untimely filed comments will not be considered.

• Federal eRulemaking Portal: https://www.regulations.gov. Follow the instructions for submitting comments for WCPO-2025-0072. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP, Division of Longshore and Harbor Workers' Compensation, 200 Constitution Avenue NW, Room S-3323, Washington, DC 20210.

• OWCP will post your comment as well as any attachments, except for information submitted and marked as confidential, in the docket at https://www.regulations.gov.

FOR FURTHER INFORMATION CONTACT: Contact Anjanette Suggs, Office of Workers' Compensation Programs, Longshore and Harbor Workers' Compensation, OWCP/DLHWC at suggs.anjanette@dol.gov (email); by telephone at 202- 354-9660.

SUPPLEMENTARY INFORMATION:

I. Background

The DOL, as part of continuing efforts to reduce paperwork and respondent burden, conducts a pre-clearance consultation program to provide the general public and Federal agencies an opportunity to comment on proposed and/or continuing collections of information before submitting them to the 0MB for final approval. This program helps to ensure requested data can be provided in the desired format, reporting burden (time and financial resources) is minimized, collection instruments are clearly understood, and the impact of collection requirements can be properly assessed.

The Office of Workers' Compensation Programs administers the Longshore and Harbor Workers' Compensation Act. The Act provides benefits to workers injured in maritime employment on the navigable waters of the United States or in an adjoining area customarily used by an employer in loading, unloading, repairing, or building a vessel. In addition, several acts extend the Longshore Act's coverage to certain other employees.

The Longshore and Harbor Workers' Compensation Act (LHWCA), at 39(a) generally authorizes the Secretary of Labor to prescribe rules and regulations to implement the Act. See 33 U.S.C. 939(a).

Attorney Fee Approval Request (LS-4)

When an attorney successfully obtains benefits for the injured worker or survivor, he or she may be entitled to a fee. See 33 U.S.C. 928; 20 CFR 702.132. In certain circumstances, the Act shifts payment of the attorney's fee to the employer (or its insurance carrier). 20 CFR 702.134. The appropriate adjudicator-an OWCP District Director, an Administrative Law Judge, the Benefits Review Board or a court-must approve the fee. The District Director rules on attorney fees for services rendered while the case is pending before him or her. 20 CFR 702.132. See 20 CFR 702.134. The attorney requesting the District Director's approval must file an itemized fee petition for services performed at the OWCP level. To identify and timely respond to the requests, OWCP is requiring attorneys to submit Form LS-4, Attorney Fee Approval Request. Using this form will speed the processing of attorney fee requests and the payment of such fees.

Application for Special Fund Relief (LS-5)

Under section 8(f) of the Act, 33 U.S.C. 908(f), if a pre-existing disability contributes to a disability or impairment from a subsequent work-related injury, the employer is liable for only the first 104 weeks of permanent disability compensation and the Longshore Special Fund (see generally 33 U.S.C. 944) is liable thereafter. See also 20 CFR 702.321. Hearing loss claims are different in that the Special Fund pays for the pre-existing hearing loss and the employer for the added hearing loss. An employer/carrier must submit a request for section 8(f) relief from compensation payments to OWCP; relief may be granted by an OWCP District Director or an Administrative Law Judge.

To identify and timely respond to requests under section 8(f), OWCP is requiring employers/carriers to submit Form LS-5, Application for Special Fund Relief. Form LS-5 reflects the application requirements codified at 20 CFR 702.321.

Commutation Application (LS-6)

When compensation under the LHWCA or the Defense Base Act (DBA), an extension of the LHWCA, is payable to certain aliens who are not residents (or about to become nonresidents) of the United States or Canada, the OWCP Director may commute future periodic payments and require payment equal to one-half of the commuted amount. See 33 U.S.C. 909(g); 42 U.S.C. 1652; 20 CFR 702.142; 20 CFR 704.102. The Director may commute compensation payments at his or her option and must commute them upon the application of the employer or insurance carrier.

In response to its LHWCA and DBA stakeholders and to facilitate the commutation of payments to injured workers and the beneficiaries of deceased workers, OWCP is requiring employers and carriers to file Form LS- 6 to request commutation.

Request for Intervention (LS-7)

Title 20 CFR 702.311 empowers the District Directors to resolve disputes with respect to claims in a manner designed to protect the rights of the parties and to resolve such disputes at the earliest practicable date. See 33 U.S.C. 923(a); 20 CFR 702.301 (“the District Directors are empowered to amicably and promptly resolve such problems by informal procedures”). In some cases, the best resolution method is an informal conference. See 20 CFR 702.312-702.316 (establishing guidelines for conducting informal conferences).

Usually, one of the parties requests an intervention or informal conference to assist with dispute resolution. Prior to scheduling an informal conference, the issues in dispute must be established and the District Director, or designee, must determine whether the type of intervention requested is the most effective means for resolving the disputed issues. The purpose of the Form LS-7, Request for Intervention, is to initiate the request for informal dispute resolution.

Settlement Application Section 8(i) (LS-8)

LHWCA section 8(i), 33 U.S.C. 908(i), allows the parties to settle claims for compensation and/or medical benefits. A Settlement Application is time sensitive because once the parties submit a settlement application, the District Director or Administrative Law Judge within thirty days must determine whether the settlement is adequate under the Act and regulations and, if so, issue a Compensation Order approving the settlement application in response.

To facilitate prompt processing of settlement applications, OWCP is requiring the parties to use Form LS-8 which outlines the terms of the settlement and provides the information required to determine the adequacy of the settlement proposal by the regulations. Title 20 CFR 702.242-702.243 authorizes this information collection.

Stipulation Approval Request (LS-9)

The regulations empower District Directors to resolve claims amicably and promptly, and issue formal compensation orders when the parties reach agreement on issues. See 20 CFR 702.301, 702.311, 702.315(a). To meet these goals, the District Director may issue an Order Approving Stipulations agreed to by all parties.

To facilitate prompt processing of requests to approve stipulations, OWCP is requiring the parties to use Form LS-9. The parties must attach the signed joint stipulations they wish to have approved. OWCP will prioritize handling of LS-9 forms.

This information collection is currently approved for use through March 31, 2026. Legal authority for this information collection is found at 33 U.S.C. 939(a). Regulatory authority is found at 20 CFR 702.132, 702.134, 702.321, 702.142, 704.102, 702.301, 702.312-702.316, 702.242-702.243, 702.301, 702.311 and 702.315(a).

This information collection is subject to the PRA. A Federal agency generally cannot conduct or sponsor a collection of information, and the public is generally not required to respond to an information collection, unless the 0MB under the PRA approves it and displays a currently valid 0MB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration and summarized and included in the request for 0MB approval of the final ICR. In order to help ensure appropriate consideration, comments should mention 0MB No. 1240-0058.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: Office of Workers' Compensation Programs.

OMB Number: 1240-0058.

Type of Review: Extension of currently approved collection.

Title of Collection: Request for Intervention, Longshore and Harbor Workers' Compensation Act.

Form: LS-4, Attorney Fee Approval Request, LS-5 Application for Special Fund Relief, LS-6 Commutation, LS-7 Request for Intervention, LS-8 Settlement Application Section, LS-9 Stipulation Approval Request by Registered or Certified Mail for Employers and/or Insurance Carriers, Attorney Fee Approval Request, Application for Special Fund Relief, Commutation Application, Request for Intervention, Settlement Application Section, and the Stipulation Approval.

OMB Control Number: 1240-0058.

Affected Public: Private Sector, Individuals and Households.

Estimated Number of Respondents: 50,046.

Frequency: On occasion.

Total Estimated Annual Responses: 50,046.

Estimated Average Time per Response: 15 minutes.

Estimated Total Annual Burden Hours: 12,512 hours.

Total Estimated Annual Other Cost Burden: $0.

(Authority: 44 U.S.C. 3506(c)(2)(A)).

Anjanette Suggs,
Agency Clearance Officer.

[FR Doc. 2025-22486 Filed 12-10-25; 8:45 am]

BILLING CODE 4510-CF-P